DEPARTMENT OF ENERGY

Federal Energy Regulatory Commission

[Project No. 14256-000]

Windsor Machinery Co., Inc.; Notice of Preliminary Permit Application Accepted for Filing and Soliciting Comments, Motions To Intervene, and Competing Applications

On August 15, 2011, Windsor Machinery Co., Inc. filed an application for a preliminary permit, pursuant to section 4(f) of the Federal Power Act (FPA), proposing to study the feasibility of the Braendly Hydroelectric Project to be located on Fishkill Creek in Dutchess County, New York. The sole purpose of a preliminary permit, if issued, is to grant the permit holder priority to file a license application during the permit term. A preliminary permit does not authorize the permit holder to perform any land-disturbing activities or otherwise enter upon lands or waters owned by others without the owners' express permission.

The proposed project would redevelop an abandoned project and consist of: (1) An existing 130-foot-long, 18-foot-high cut stone with a concrete cap dam creating a reservoir with a surface area of approximately 3.04 acres and a total storage capacity of 15 acre-feet at a normal maximum operating elevation of 119.5 feet mean sea level (msl); (2) a new 5-foot-diameter, 200-foot-long penstock replacing an existing penstock in its entirety; (3) a new 35-foot-long by 35-foot-wide 3-storey high powerhouse at the site of an original powerhouse containing one turbine unit with a rated capacity of 225 kilowatts; (4) an existing 10-foot-long by 5-foot-wide tailrace; (5) a new 480-volt, 400-foot-long transmission line extending from the powerhouse to a nearby building; and (6) appurtenant facilities. The project would have an annual generation of 1,600 megawatt-hours.

Applicant Contact: Sarah L. Bower, Windsor Machinery Co., Inc., 16 Orbit Lane, Hopewell Junction, NY 12533; phone: (845) 897-4194.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14256-000) in the docket number field to access the document. For assistance, contact FERC Online Support.

Dated: October 25, 2011.
Kimberly D. Bose,
Secretary.

[FR Doc. 2011-28086 Filed 10-28-11; 8:45 am]

BILLING CODE 6717-01-P